FEDERAL HOUSING FINANCE BOARD

Sunshine Act Meeting Notice; Announcing an Open Meeting of the Board of Directors

Time and Date: The meeting of the Board of Directors is scheduled to begin at 10 a.m. on Wednesday, February 11, 2004.

Place: Board Room, Second Floor, Federal Housing Finance Board, 1777 F Street, NW., Washington, DC 20006.

Status: The entire meeting will be open to the public.

Matters To Be Considered: Strategic Plan 2003—2008. Consideration of a strategic plan for the agency covering the period from 2003 through 2008.

Legal Authority to Require Registration of Federal Home Loan Bank Securities Under the Securities Exchange Act of 1934. Consideration of a resolution directing the Chairman to request that the Office of Legal Counsel of the Department of Justice determine whether the agency has the authority under the Federal Home Loan Bank Act to require each Federal Home Loan Bank to register a class of its equity securities with the Securities and Exchange Commission under the provisions of section 12(g) of the Securities Exchange Act of 1934.

Contact Person for More Information: Mary Gottlieb, Paralegal Specialist, Office of General Counsel, by telephone at 202/408-2826 or by electronic mail at gottliebm@fhfb.gov.

Dated: February 4, 2004.
By the Federal Housing Finance Board.
John Harry Jorgenson,
General Counsel.

[FR Doc. 04-2888 Filed 2-5-04; 3:12 pm]

BILLING CODE 6725-01-U